DEPARTMENT OF THE INTERIOR

Bureau of Land Management

[ID-933-1430-ET; GPO-05-0003; IDI-15306, IDI-15307, IDI-010828, IDI-15301]

Expiration of Public Land Orders and Opening of Lands; Idaho

AGENCY: Bureau of Land Management, Interior.

ACTION: Notice.

SUMMARY: The Bureau of Land Management announces the expiration of two public land orders affecting 32,978.34 acres of public lands. This order opens the lands to surface entry.

DATES: Effective September 16, 2005.

FOR FURTHER INFORMATION CONTACT: Jackie Simmons, Bureau of Land Management, Idaho State Office, 1387 South Vinnell Way, Boise, Idaho 83709, 208-373-3867.

SUPPLEMENTARY INFORMATION: 1. Public Land Order No. 6602, published in the Federal Register on May 1, 1985, (50 FR 18487), established a 20-year term for two Bureau of Land Management orders which withdrew 10,846.34 acres of public land from surface entry to protect a stock driveway. Public Land Order No. 6602 expired by operation of law on April 30, 2005.

2. Public Land Order No. 6595, published in the Federal Register on March 22, 1985, (50 FR 11505), established 20-year terms for three orders which withdrew 22,132.00 acres of public land from surface entry to protect a stock driveway. Public Land Order No. 6595 expired by operation of law on March 21, 2005.

3. At 8:30 a.m., on September 16, 2005, the lands withdrawn by the public land orders listed in Paragraph 1 and 2 above will be opened to the operation of the public land laws generally, subject to valid existing rights, the provisions of existing withdrawals, other segregations of record, and the requirements of applicable law. All valid applications received at or prior to 8:30 a.m. on September 16, 2005, shall be considered as simultaneously filed at that time. Those received thereafter shall be considered in the order of filing.

(Authority: 43 CFR 2091.6)
Jimmie Buxton,
Branch Chief Land and Minerals.

[FR Doc. 05-16306 Filed 8-16-05; 8:45 am]

BILLING CODE 4310-GG-P